DEPARTMENT OF ENERGY

Federal Energy Regulatory Commission

[Project No. 3071-007]

Rapidan Hydroelectric, LLC, Blue Earth County; Notice of Transfer of Exemption

1. On May 31, 2022, Rapidan Hydroelectric, LLC, exemptee for the 5 Megawatts Rapid Dam Hydroelectric Project No. 3071, filed a letter notifying the Commission that the project was transferred from Rapidan Hydroelectric, LLC to Blue Earth County. The exemption from licensing was originally issued on July 1, 1982.¹ The project is located on the Blue Earth River, Blue Earth County, Minnesota. The transfer of an exemption does not require Commission approval.

¹ Rapidan Redevelopment Ltd, 20 FERC ¶ 62,006 (1982). Subsequently, on June 4, 2004, the project was transferred to Rapidan Hydroelectric, LLC.

2. Blue Earth County is now the exemptee of the Rapidan Hydroelectric Project No. 3071. All correspondence must be forwarded to Ryan Thilges, P.E., Engineer/Public Works Director, Blue Earth County, 35 Map Drive, P.O. Box 3083, Mankato, MN 56002-3083, Phone: (507) 304-4031, Email: ryan.thilges@blueearthcountymn.gov.

Dated: July 7, 2022.
Kimberly D. Bose,
Secretary.

[FR Doc. 2022-14917 Filed 7-12-22; 8:45 am]

BILLING CODE 6717-01-P